DEPARTMENT OF ENERGY

Federal Energy Regulatory Commission

Combined Notice of Filings #1

October 26, 2007.

Take notice that the Commission received the following electric rate filings:

Docket Numbers: ER07-1205-001.

Applicants: PJM Interconnection, L.L.C.

Description: PJM Interconnection, LLC responds to FERC's 9/21/07 deficiency letter re their 7/26/07 filing of an executed interconnection service agreement with WM Renewable Energy, LLC.

Filed Date: 10/22/2007.

Accession Number: 20071023-0034.

Comment Date: 5 p.m. Eastern Time on Tuesday, November 13, 2007.

Docket Numbers: ER07-1258-002.

Applicants: Rocky Mountain Power, LLC.

Description: Rocky Mountain Power LLC submits Substitute Original Sheet No. 1 and Second Substitute Original Sheet No. 2 to its revised tariff to delete the following provisions.

Filed Date: 10/22/2007.

Accession Number: 20071023-0033.

Comment Date: 5 p.m. Eastern Time on Tuesday, November 13, 2007.

Docket Numbers: ER07-1259-002.

Applicants: San Joaquin Cogen, LLC.

Description: San Joaquin Cogen LLC submits its Second Substitute Original Sheet 1-3 to its FERC Electric Tariff, First Revised Volume 1 etc.

Filed Date: 10/22/2007.

Accession Number: 20071023-0031.

Comment Date: 5 p.m. Eastern Time on Tuesday, November 13, 2007.

Docket Numbers: ER07-1331-002.

Applicants: Indianapolis Power & Light Company.

Description: Indianapolis Power & Light Company submits the corrected designation of First Revised Rate Schedule 21 superceding Original Sheet 1 through 11.

Filed Date: 10/19/2007.

Accession Number: 20071023-0032.

Comment Date: 5 p.m. Eastern Time on Friday, November 9, 2007.

Docket Numbers: ER08-25-001.

Applicants: Ocean State Power.

Description: Ocean State Power and Ocean State Power II submits revised tariff sheets to accompany the 10/4/07 application.

Filed Date: 10/22/2007.

Accession Number: 20071024-0020.

Comment Date: 5 p.m. Eastern Time on Tuesday, November 13, 2007.

Docket Numbers: ER08-68-000.

Applicants: Virginia Electric and Power Company.

Description: Virginia Electric and Power Co. submits an amendment to their Agreement for the Purchase of Electricity for Resale with Virginia Municipal Electric Association No.1.

Filed Date: 10/18/2007.

Accession Number: 20071022-0090.

Comment Date: 5 p.m. Eastern Time on Thursday, November 8, 2007.

Docket Numbers: ER08-75-000.

Applicants: Del Light, Inc.

Description: Del Light, Inc. submits a Petition for Acceptance of Initial Tariff, Waivers and Blanket Authority designated as FERC Electric Tariff, Original Volume.

Filed Date: 10/22/2007.

Accession Number: 20071023-0028.

Comment Date: 5 p.m. Eastern Time on Tuesday, November 13, 2007.

Docket Numbers: ER08-76-000.

Applicants: South Glen Falls Energy, LLC.

Description: South Glen Falls Energy, LLC submits a notice of cancellation of their market based rate tariff, FERC Electric Tariff, Third Revised Volume 1.

Filed Date: 10/22/2007.

Accession Number: 20071023-0035.

Comment Date: 5 p.m. Eastern Time on Tuesday, November 13, 2007.

Docket Numbers: ER08-77-000.

Applicants: Golden Spread Electric Cooperative, Inc.

Description: Golden Spread Electric Cooperative, Inc. submits First Revised Sheet No. 8 et al. to FERC Revised Rate Schedule 23 et al.

Filed Date: 10/22/2007.

Accession Number: 20071024-0024.

Comment Date: 5 p.m. Eastern Time on Tuesday, November 13, 2007.

Docket Numbers: ER08-78-000.

Applicants: Southwest Power Pool, Inc.

Description: Southwest Power Pool, Inc. submits an executed revised service agreement for Network Integration Transmission Service with Westar Energy, Inc.

Filed Date: 10/22/2007.

Accession Number: 20071024-0025.

Comment Date: 5 p.m. Eastern Time on Tuesday, November 13, 2007.

Docket Numbers: ER08-79-000.

Applicants: Nevada Power Company

Description: Nevada Power Co. submits a notice of cancellation of FERC Electric Tariff 5 et al.

Filed Date: 10/23/2007.

Accession Number: 20071024-0023.

Comment Date: 5 p.m. Eastern Time on Tuesday, November 13, 2007.

Docket Numbers: ER08-80-000.

Applicants: The Detroit Edison Company.

Description: The Detroit Edison Co. submits an executed Wholesale Distribution Service Agreement with the City of Croswell et al.

Filed Date: 10/23/2007.

Accession Number: 20071024-0022.

Comment Date: 5 p.m. Eastern Time on Tuesday, November 13, 2007.

Docket Numbers: ER08-81-000.

Applicants: Sierra Pacific Power Company.

Description: Sierra Pacific Power Co. submits a notice of cancellation of FERC Electric Tariff 4 et al.

Filed Date: 10/23/2007.

Accession Number: 20071024-0021.

Comment Date: 5 p.m. Eastern Time on Tuesday, November 13, 2007.

Docket Numbers: ER08-82-000.

Applicants: Southern California Edison Company.

Description: Southern California Edison Co.'s reliability Services Rate Revision Filing.

Filed Date: 10/23/2007.

Accession Number: 20071024-0161.

Comment Date: 5 p.m. Eastern Time on Tuesday, November 13, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Acting Deputy Director.

[FR Doc. E7-21648 Filed 11-2-07; 8:45 am]

BILLING CODE 6717-01-P